DEPARTMENT OF ENERGY

Federal Energy Regulatory Commission

[Project No. 2985-008-MA]

Onyx Specialty Papers, Inc; Notice Soliciting Applications

July 14, 2010.

On April 29, 2009, Onyx Specialty Papers, Inc. (Onyx), licensee for the Willow Mill Project No. 2985, filed an application for a subsequent license for the project pursuant to section 15(b)(1) of the Federal Power Act (FPA). The license application was timely filed and an Environmental Assessment was issued on February 2, 2010. On June 1, 2010, Onyx filed a withdrawal of its subsequent license application, and concurrently filed an application to surrender its license.

The project is located on the Housatonic River in the Town of Stockbridge, Berkshire County, Massachusetts. The project consists of: (1) A 14-foot-high, 150-foot-wide stone masonry gravity dam; (2) an 11-acre impoundment; (3) a 10-foot-deep, 18-foot-wide, 50-foot-long rubble and masonry canal connected to a 10-foot-deep, 18-foot-wide, 260-foot-long rubble and masonry underground headrace; (4) two 5.5-foot-long, 8-foot diameter steel penstocks; (5) a 100-kW turbine generating unit; and (6) a 210-foot-long pipe discharging water back into the Housatonic River. The turbine generating unit is located in the basement of MeadWestvaco's paper mill. There are no transmission lines associated with the project because all of the power is used internally at Willow Mill. The applicant estimates that the total average annual generation, with the proposed minimum flow, would be approximately 256 megawatt-hours.

As a result of the withdrawal of Onyx's application, the Commission is soliciting license applications from potential applicants. This is because the deadline for filing applications for subsequent license was April 30, 2009, and no application other than the licensee's was filed. Thus, the Commission is giving other interested entities the opportunity to file.

The licensee is required to make available to the public certain information described in section 16.7 of the regulations. For more information from the licensee, please contact Mr. John Clements, Counsel for Onyx Specialty Papers, Inc., Van Ness Feldman, PC, 1050 Jefferson Street, NW., Suite 700, Washington, DC 20007-3877, (202) 298-1800.

Pursuant to section 16.25(b), a potential applicant that files a notice of intent within 90 days from the date of this notice: (1) May apply for a license under Part I of the FPA and Part 4 (except section 4.38) of the Commission's Regulations within 18 months of the date on which it files its notice; and (2) must comply with sections 16.8 and 16.10 of the Commission's Regulations.

Questions concerning this notice should be directed to Robert Bell, (202) 502-6062 or robert.bell@ferc.gov.

Kimberly D. Bose,
Secretary.

[FR Doc. 2010-17731 Filed 7-20-10; 8:45 am]

BILLING CODE 6717-01-P